NATIONAL FOUNDATION ON THE ARTS AND HUMANITIES

National Endowment for the Arts; Submission of OMB Review: Comment Request

The National Endowment for the Arts (NEA) has submitted the following public information collection request (ICR) to the Office of Management and Budget (OMB) for review and approval in accordance with the Paperwork Reduction Act of 1995 [Pub. L. 104-13, 44 U.S.C. Chapter 35]. Copies of the ICR, with applicable supporting documentation, may be obtained by contacting Sunil Iyengar via telephone at (202) 682-5654 (this is not a toll-free number) or email at research@arts.endow.gov. Individuals who use a telecommunications device for the deaf (TTY/TDD) may call (202) 682-5496 between 10 a.m. and 4 p.m. Eastern time, Monday through Friday.

Comments should be sent to the Office of Information and Regulatory Affairs, Attn: OMB Desk Officer for the National Endowment for the Arts, Office of Management and Budget, Room 10235, Washington, DC 20503, (202) 395-7316, within 30 days from the date of this publication in the Federal Register.

The Office of Management and Budget (OMB) is particularly interested in comments which:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated, electronic, mechanical, or other technological collection techniques, or other forms of information technology, e.g., permitting electronic submission of responses.

Agency: National Endowment for the Arts.

Title: General Social Survey Arts Supplement.

OMB Number: New.

Frequency: Biennial.

Affected Public: American adults.

Estimated Number of Respondents: 2,830.

Estimated Time per Respondent: 3.5 minutes.

Total Burden Hours: 165 hours.

Total Annualized Capital/Startup Costs: 0.

Total Annual Costs (Operating/Maintaining Systems or Purchasing Services): 0.

This request is for clearance of an arts supplement for the 2012 General Social Survey (GSS), to be conducted by the National Opinion Research Center. The supplement will include questions about self-reported motivations and barriers associated with attending selected art activities. The results will help to address an existing research gap of why Americans choose to attend—or not attend—activities such as visual arts exhibits or music, dance, or theater performances. These data will supplement the data collected by the Survey of Public Participation in the Arts, which was not designed to collect this information. The GSS is one of the most cited and recognized sources of information in the social sciences. The data will be publicly available and the basis for a range of NEA reports and independent research publications.

Addresses: Sunil Iyengar, National Endowment for the Arts, 1100 Pennsylvania Avenue NW., Room 616, Washington, DC 20506-0001, telephone (202) 682-5654 (this is not a toll-free number), fax (202) 682-5677.

Dated: November 9, 2011.
Kathy Plowitz-Worden,
Panel Coordinator, Panel Operations, National Endowment for the Arts.

[FR Doc. 2011-29415 Filed 11-14-11; 8:45 am]

BILLING CODE 7537-01-P